DEPARTMENT OF THE INTERIOR

Bureau of Land Management

[NV-930-1430-ET; NVN-37749]

Public Land Order No. 7604; Extension of Public Land Order No. 6540; Nevada

AGENCY: Bureau of Land Management, Interior.

ACTION: Public land order.

SUMMARY: This order extends Public Land Order No. 6540 for an additional 20-year period. This extension is necessary to continue the protection of the Elko Field Office Administrative Site.

DATES: Effective Date: June 26, 2004.

FOR FURTHER INFORMATION CONTACT: Dennis J. Samuelson, BLM Nevada State Office, P.O. Box 12000, Reno, Nevada 89520, 775-861-6532.

Order

By virtue of the authority vested in the Secretary of the Interior by Section 204 of the Federal Land Policy and Management Act of 1976, 43 U.S.C. 1714 (1994), it is ordered as follows:

1. Public Land Order No. 6540 (49 FR Doc. 84-14397, May 30, 1984), which withdrew 10.72 acres of public lands from surface entry and mining to protect the Elko Field Office Administrative Site, is hereby extended for an additional 20-year period.

2. Public Land Order No. 6540 will expire on June 25, 2024, unless, as a result of a review conducted prior to the expiration date pursuant to Section 204(f) of the Federal Land Policy and Management Act of 1976, 43 U.S.C. 1714(f) (2000), the Secretary determines that the withdrawal shall be extended.

(Authority: 43 U.S.C. 1714 (a) and (f); 43 CFR 2310.4)
Dated: May 11, 2004.
Rebecca W. Watson,
Assistant Secretary—Land and Minerals Management.

[FR Doc. 04-12269 Filed 5-28-04; 8:45 am]

BILLING CODE 4310-HC-P